DEPARTMENT OF THE INTERIOR

Fish and Wildlife Service

[FWS-HQ-WSFR-2018-N098; FVWF94100900000-XXX-FF09W23000; FVWF51100900000-XXX-FF09W23000; OMB Control Number 1018-0007]

Agency Information Collection Activities; Annual Certification of Hunting and Sport Fishing Licenses Issued

AGENCY: Fish and Wildlife Service, Interior.

ACTION: Notice of information collection; request for comment.

SUMMARY: In accordance with the Paperwork Reduction Act of 1995, we, the U.S. Fish and Wildlife Service (Service), are proposing to renew an information collection.

DATES: Interested persons are invited to submit comments on or before October 22, 2018.

ADDRESSES: Send your comments on the information collection request (ICR) by mail to the Service Information Collection Clearance Officer, U.S. Fish and Wildlife Service, MS: BPHC, 5275 Leesburg Pike, Falls Church, VA 22041-3803; or by email to Info_Coll@fws.gov. Please reference OMB Control Number 1018-0007 in the subject line of your comments.

FOR FURTHER INFORMATION CONTACT: Madonna L. Baucum, Service Information Collection Clearance Officer, by email at Info_Coll@fws.gov, by telephone at 703-358-2503, or via the Federal Relay Service at 800-877-8339.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Pittman-Robertson Wildlife Restoration Act (16 U.S.C. 669 et seq.) and the Dingell-Johnson Sport Fish Restoration Act (16 U.S.C. 777 et seq., except 777e-1) provide authority for Federal assistance to the States for management and restoration of fish and wildlife. These Acts and our regulations in the Code of Federal Regulations (CFR) at 50 CFR 80, subpart D, require that States, territories, and the District of Columbia annually certify their hunting and fishing license sales. States, territories, and the District of Columbia that receive grants under these Acts use FWS Forms 3-154 (Certification and Summary of Hunting and Sport Fishing Licenses Issued) to certify the number of hunting and fishing licenses sold and the amount of sales. We use the information collected to apportion and distribute funds according to the formula specified in each Act.

With this renewal request, the Service plans to consolidate two forms previously approved by OMB into a single form. FWS Forms 3-154a (Part I-Certification) and 3-154b (Part II-Summary of Hunting and Sport Fishing Licenses Issued), will be combined into a single Form 3-154, Certification and Summary of Hunting and Sport Fishing Licenses Issued. We made no substantive changes to the questions on the final consolidated form. This change will streamline the submission process on the public.

Title of Collection: Annual Certification of Hunting and Sport Fishing Licenses Issued, 50 CFR 80, subpart D.

OMB Control Number: 1018-0007.

Form Number: Forms 3-154.

Type of Review: Revision of a currently approved collection.

Respondents/Affected Public: States, territories (Commonwealth of Puerto Rico, Commonwealth of the Northern Mariana Islands, Guam, U.S. Virgin Islands, and American Samoa), and District of Columbia.

Total Estimated Number of Annual Respondents: 112.

Total Estimated Number of Annual Responses: 112.

Estimated Completion Time per Response: 32 hours.

Total Estimated Number of Annual Burden Hours: 1,792.

Respondent's Obligation: Required to Obtain or Retain a Benefit.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq.).

Dated: August 17, 2018.
Madonna Baucum,
Information Collection Clearance Officer, U.S. Fish and Wildlife Service.

[FR Doc. 2018-18085 Filed 8-21-18; 8:45 am]

BILLING CODE 4333-15-P